DEPARTMENT OF TRANSPORTATION

Federal Aviation Administration

Notice of Intent of Waiver With Respect to Land; Grand Rapids/Itasca County Airport, Grand Rapids, MN

AGENCY: Federal Aviation Administration (FAA), DOT.

ACTION: Notice.

SUMMARY: The FAA is considering a proposal to change 4.31 acres of airport land from aeronautical use to non-aeronautical use and to authorize the sale of airport property located at Grand Rapids/Itasca County Airport, Grand Rapids, MN. The aforementioned land is not needed for aeronautical use. The subject property is a wooded area located outside of the airport perimeter fence on the west side of Runway 16/34. The proposed use of the property is to be sold to a private company for industrial use development.

DATES: Comments must be received on or before April 12, 2024.

ADDRESSES: All requisite and supporting documentation will be made available for review by appointment at the FAA Dakota-Minnesota Airports District Office, Jeremy McLeod, Program Manager, 2301 University Dr., Bldg. 23B, Bismarck, ND 58504. Telephone: (701) 323-7380.

Written comments on the Sponsor's request may be submitted using any of the following methods:

• Federal eRulemaking Portal: Go to http://www.regulations.gov, and follow the instructions for sending your comments electronically.

• Mail: Jeremy McLeod, Program Manager, Federal Aviation Administration, Dakota-Minnesota Airports District Office, 2301 University Dr., Bldg. 23B, Bismarck, ND 58504.

• Hand Delivery: Deliver to mail address above between 8 a.m. and 5 p.m. Monday through Friday, excluding Federal holidays.

FOR FURTHER INFORMATION CONTACT: Jeremy McLeod, Program Manager, Federal Aviation Administration, Dakota-Minnesota Airports District Office, 2301 University Dr., Bldg. 23B, Bismarck, ND 58504. Telephone Number: (701) 323-7380.

SUPPLEMENTARY INFORMATION: In accordance with section 47107(h) of title 49, United States Code, this notice is required to be published in the Federal Register 30 days before modifying the land-use assurance that requires the property to be used for an aeronautical purpose.

The subject property makes up a portion of airport Parcel 45. Parcel 45 is 4.99 acres and was acquired by the airport sponsor on May 5, 1978 with FAA Airport Development Aid Program (ADAP) grant number 6-27-0037-02 funding. A 0.68-acre portion of the parcel is used for the airport perimeter road and fence. The airport will retain this portion of Parcel 45. The remaining 4.31-acre portion of the parcel to be sold is vacant wooded land and does not serve an aeronautical use. The airport plans to sell the land at fair market value to a privately held retail company for industrial use.

The disposition of proceeds from the sale of the airport property will be in accordance with FAA's Policy and Procedures Concerning the Use of Airport Revenue, published in the Federal Register on February 16, 1999 (64 FR 7696).

This notice announces that the FAA is considering the release of the subject airport property at the Grand Rapids/Itasca County Airport, Grand Rapids, MN, from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description: That part of the East 330.00 feet of the South Half of the Southeast Quarter of the Northeast Quarter of section 33, Township 55 North, Range 25 West, Itasca County, Minnesota, lying southwesterly of the following described line:

Commencing at the southeast corner of said Southeast Quarter of the Northeast Quarter; thence on an assigned bearing of North 01 degrees 20 minutes 08 seconds West, along the east line of said Southeast Quarter of the Northeast Quarter, a distance of 151.91 feet to the point of beginning of the line herein described; thence North 14 degrees 18 minutes 12 seconds West 523.41 feet to the north line of the South Half of the Southeast Quarter of the Northeast Quarter and said line terminating thereat.

Issued in Minneapolis, MN, on March 7, 2024.
E. Lindsay Terry,
Manager, Dakota-Minnesota Airports District Office, FAA, Great Lakes Region.

[FR Doc. 2024-05248 Filed 3-12-24; 8:45 am]

BILLING CODE 4910-13-P